DEPARTMENT OF TRANSPORTATION

Federal Aviation Administration

14 CFR Part 39

[Docket No. 2003-NM-256-AD]

RIN 2120-AA64

Airworthiness Directives; Airbus Model A330, A340-200, and A340-300 Series Airplanes

AGENCY: Federal Aviation Administration, DOT.

ACTION: Supplemental notice of proposed rulemaking; reopening of comment period.

SUMMARY: This document revises an earlier proposed airworthiness directive (AD), applicable to certain Airbus Model A330, A340-200, and A340-300 series airplanes, that would have required initial and repetitive inspections of certain frame stiffeners to detect cracking. If any cracking was found, that proposal would have required replacement of the stiffener with a new, reinforced stiffener. Replacement of the stiffener would constitute terminating action for certain inspections. That proposal would also have required a one-time inspection of any new, reinforced stiffener; and repair or replacement of the new, reinforced stiffener if any cracking was found during the one-time inspection. That proposal also provided for an optional terminating action for certain requirements of that AD. This new action revises the proposed rule by reducing the compliance time for the initial inspection of the affected frame stiffeners. The actions specified by this new proposed AD are intended to prevent fatigue failure of certain frame stiffener fittings, which could result in reduced structural integrity of the airplane. This action is intended to address the identified unsafe condition.

DATES: Comments must be received by December 17, 2004.

ADDRESSES: Submit comments in triplicate to the Federal Aviation Administration (FAA), Transport Airplane Directorate, ANM-114, Attention: Rules Docket No. 2003-NM-256-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-256-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-256-AD.” The postcard will be date stamped and returned to the commenter.

Availability of NPRMs

Any person may obtain a copy of this NPRM by submitting a request to the FAA, Transport Airplane Directorate, ANM-114, Attention: Rules Docket No. 2003-NM-256-AD, 1601 Lind Avenue, SW., Renton, Washington 98055-4056.

Discussion

A proposal to amend part 39 of the Federal Aviation Regulations (14 CFR part 39) to add an airworthiness directive (AD), applicable to certain Airbus Model A330, A340-200, and A340-300 series airplanes, was published as a notice of proposed rulemaking (NPRM) in the Federal Register on April 1, 2004 (69 FR 17084). That NPRM would have required initial and repetitive inspections of certain frame stiffeners to detect cracking. If any cracking was found, that proposal would have required replacement of the stiffener with a new, reinforced stiffener. Replacement of the stiffener would constitute terminating action for certain inspections. That NPRM would also have required a one-time inspection of any new, reinforced stiffeners; and repair or replacement of the new, reinforced stiffener if any cracking was found during the one-time inspection. That NPRM also provided for an optional terminating action for certain requirements of that AD. That NPRM was prompted by issuance of mandatory continuing airworthiness information by a civil airworthiness authority. Cracking and consequent fatigue failure of certain frame stiffeners, if not corrected, could result in reduced structural integrity of the airplane.

Comments

Due consideration has been given to the comments received in response to the original NPRM.

No Objection to Proposed AD

One commenter states that it does not own or operate airplanes affected by the original NPRM. The commenter does not have any further comments.

Requests To Change Compliance Time

One commenter, the manufacturer, states that the French airworthiness directives mandate accomplishment of the initial inspection of the FR12A stiffener before the accumulation of 13,000 total flight cycles. The original NPRM has a compliance time of within 6 months or 13,000 flight cycles after the effective date of the AD, whichever is later, for the initial inspection.

We infer that the commenter is requesting that the compliance time of the original NPRM be revised to match what is in the parallel French airworthiness directives. We partially agree. The compliance time in paragraph (a) of this supplemental NPRM has been changed to “Prior to the accumulation of 13,000 total flight cycles or within 6 months after the effective date of this AD, whichever occurs later.” Although the French airworthiness directives do not include a grace period, we find it necessary to include a 6-month grace period to avoid grounding airplanes that have accumulated 13,000 total flight cycles or more as of the effective date of the AD.

Another commenter, an operator, requests that the 6-month grace period in paragraph (a) of the original NPRM be extended to 18 months. The commenter states that it anticipates incorporation of the subject modification during upcoming maintenance checks, and that an 18-month compliance time will align with those maintenance checks. The commenter adds that if an operator has already accumulated more than 11,400 total flight cycles or 33,100 total flight hours on the airplane, the operator may be forced to do the subject modification outside of a heavy maintenance environment, which would extend the out-of-service time. The commenter notes that extending the grace period to 18 months would allow for accomplishment of the modification without specially scheduled downtime outside of scheduled maintenance.

We do not agree. In developing an appropriate grace period for this action, we considered the safety implications, operators' normal maintenance schedules, and the compliance time recommended by the airplane manufacturer for the timely accomplishment of the required actions. In consideration of these items, we have determined that a grace period of 6 months will ensure an acceptable level of safety, and is an appropriate interval of time wherein the required actions can be accomplished during scheduled maintenance intervals for the majority of affected operators. However, according to the provisions of paragraph (g) of this supplemental NPRM, we may approve a request to adjust the compliance time if the request includes data that justify that a different compliance time would provide an acceptable level of safety. This supplemental NPRM has not been changed regarding this issue.

Request To Change Cost Impact Section

The same commenter requests that the estimated work hours for access and close-up of the inspection area be included in the Cost Impact section of the original NPRM. The commenter states that approximately 140 work hours will be needed for access and close-up. The commenter agrees with the estimate in the original NPRM that approximately 4 work hours will be needed to accomplish the inspection.

We do not agree that the estimated work hours for access and close-up of the inspection area should be included in this supplemental NPRM. As stated in the original NPRM, “the cost impact figures * * * represent only the time necessary to perform the specific actions actually required by the AD.” The specific actions required by the AD are repetitive high-frequency eddy current inspections of the FR12A stiffener fitting. We expect that most operators will be able to do the actions specified in this supplemental NPRM during scheduled maintenance. We attempt to set compliance times that generally coincide with operators' maintenance schedules. However, because operators' schedules vary substantially, we cannot accommodate every operator's optimal scheduling in each AD. The time necessary for gaining access to and closing the inspection area is incidental. This supplemental NPRM has not been changed regarding this issue.

Request To Allow Temporary Flight With Cracking

One commenter, the manufacturer, notes that paragraph (b) of the original NPRM specifies replacement of cracked FR12A stiffeners before further flight.

Since the service bulletins and the parallel French airworthiness directives allow temporary flight with cracks of certain lengths, and corrective actions at various flight-cycle thresholds, we infer that the commenter is requesting that the original NPRM allow flight with cracking. We do not agree. The manufacturer did not provide data that showed the ultimate strength capability of a stiffener with cracking. Also, the manufacturer did not provide fatigue analysis that showed, under a load condition, that the cracking did not grow, or that the cracking grew at an acceptably slow rate, during the period time of time between the identification of the cracking and the corrective actions. We have determined that, due to the safety implications and consequences associated with such cracking, all fittings with cracking must be replaced before further flight. This supplemental NPRM has not been changed regarding this issue.

Explanation of Change to Relevant Service Information Referenced in This Supplemental NPRM

Since the issuance of the original NPRM, Airbus has issued Service Bulletin A340-53-4141, Revision 02, dated August 13, 2004 (for Model A340-200 and A340-300 series airplanes). (The original NPRM refers to A340-53-4141, Revision 01, dated July 7, 2003, as the appropriate source of service information for the proposed actions for these airplanes.) Revision 02 of the service bulletin adds details to Figure 2 and changes the identification number of the modification kits. Revision 02 also includes a new figure, Figure 13, that contains instructions for reworking a stiffener fitting. Figure 13 only pertains to operators that have certain modification kits. We have changed paragraphs (a), (b), (c), and (f) of this supplemental NPRM to reference Revision 02 of the service bulletin.

Explanation of Change to Paragraph (e) of This Supplemental NPRM

Paragraph (e) of the original NPRM inadvertently referenced Airbus Service Bulletin A340-53-4137, dated May 26, 2003, twice. We have changed paragraph (e) of this supplemental NPRM to delete one of the references to Service Bulletin A340-53-4137, and to give credit for actions done before the effective date of the AD in accordance with Airbus Service Bulletin A340-53-4141, dated May 26, 2003; and A340-53-4141, Revision 01, dated July 7, 2003.

Additional Change to This Supplemental NPRM

The number of affected Airbus Model A330 airplanes has been updated from 9 to 20 in the Cost Impact section of this supplemental NPRM.

Conclusion

Since a certain change expands the scope of the original NPRM, the FAA has determined that it is necessary to reopen the comment period to provide additional opportunity for public comment.

Cost Impact

The FAA estimates that 20 Model A330 airplanes of U.S. registry would be affected by this proposed AD, that it would take approximately 4 work hours per airplane to accomplish the proposed inspection, and that the average labor rate is $65 per work hour. Based on these figures, the cost impact of the proposed AD on U.S. operators is estimated to be $5,200, or $260 per airplane, per inspection cycle.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

If an operator chooses to do the optional terminating action rather than continue the repetitive inspections, it would take about 74 work hours per airplane to accomplish the installations, at an average labor rate of $65 per work hour. Required parts would cost about $7,860 per airplane. Based on these figures, we estimate the cost of this optional terminating action to be $12,670 per airplane.

Currently, there are no affected Model A340-200 or A340-300 series airplanes on the U.S. Register. However, if an affected airplane is imported and placed on the U.S. Register in the future, it would take approximately 4 work hours to accomplish the proposed inspection, at an average labor rate of $65 per work hour. Based on these figures, we estimate the cost of this AD to be $260 per airplane, per inspection cycle.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-256-AD.

Applicability: Model A330 series airplanes; and Model A340-200 and A340-300 series airplanes; except those on which Airbus Modification 49694 has been installed; certificated in any category.

Compliance: Required as indicated, unless accomplished previously.

To prevent fatigue failure of certain frame stiffener fittings, which could result in reduced structural integrity of the airplane, accomplish the following:

Initial and Repetitive Inspections

(a) Prior to the accumulation of 13,000 total flight cycles or within 6 months after the effective date of this AD, whichever occurs later: Conduct a high-frequency eddy current (HFEC) inspection for cracking of the FR12A stiffener fitting in accordance with the Accomplishment Instructions of Airbus Service Bulletin A330-53-3135, Revision 01, dated July 7, 2003 (for Model A330 series airplanes); or Airbus Service Bulletin A340-53-4141, Revision 02, dated August 13, 2004 (for Model A340-200 and A340-300 series airplanes); as applicable. Repeat the inspection at intervals not to exceed 10,000 flight cycles until the replacement required by paragraph (b) of this AD is accomplished; or until the optional terminating action in paragraph (d) of this AD is accomplished. The actions in paragraphs (b) and (d) of this AD constitute terminating action for the repetitive inspections only for the side on which the actions are taken.

Replacement

(b) If any cracking is detected during any inspection required by paragraph (a) of this AD: Before further flight, replace the affected FR12A stiffener with a new reinforced FR12A stiffener in accordance with the Accomplishment Instructions of Airbus Service Bulletin A330-53-3135, Revision 01, dated July 7, 2003; or Airbus Service Bulletin A340-53-4141, Revision 02, dated August 13, 2004; as applicable. Replacement of the stiffener constitutes terminating action for the repetitive inspections required by paragraph (a) of this AD, only for the side on which the replacement is made.

Follow-On Inspection

(c) For airplanes on which a new, reinforced stiffener is installed in accordance with paragraph (b) of this AD: Within 14,600 flight cycles following the installation, perform an HFEC inspection of the FR12A stiffener fitting for cracking in accordance with Airbus Service Bulletin A330-53-3135, Revision 01, dated July 7, 2003; or Airbus Service Bulletin A340-53-4141, Revision 02, dated August 13, 2004; as applicable. If any cracking is detected, before further flight, repair or replace the new reinforced stiffener with a new stiffener in a manner approved by either the Manager, International Branch, ANM-116, FAA; or the DGAC (or its delegated agent).

Optional Terminating Action

(d) Replacement of the FR12A stiffeners with new, reinforced stiffeners; installation of new reinforced junction fittings between FR12A/FR13 and FR13/FR13A at the stringer 26 level; and installation of a new shear web that joins the fitting to the cabin floor track; in accordance with the Accomplishment Instructions of Airbus Service Bulletin A330-53-3130, Revision 01, dated October 10, 2003; or A340-53-4137, Revision 01, dated October 10, 2003; as applicable; constitutes terminating action for the inspection requirements of paragraphs (a) and (c) of this AD, only for the side on which the replacement and installations are made.

Actions Accomplished per Previous Issues of Service Bulletins

(e) Actions accomplished before the effective date of this AD in accordance with Airbus Service Bulletins A330-53-3130, dated May 26, 2003; A330-53-3135, dated May 26, 2003; A340-53-4137, dated May 26, 2003; A340-53-4141, dated May 26, 2003; or A340-53-4141, Revision 01, dated July 7, 2003; are considered acceptable for compliance only with the following requirements of this AD: The HFEC inspections required by paragraph (a) of this AD, the replacement required by paragraph (b) of this AD, and the actions in paragraph (d) of this AD.

No Reporting Requirements

(f) Although the Accomplishment Instructions of Airbus Service Bulletin A330-53-3135, Revision 01, dated July 7, 2003; and Airbus Service Bulletin A340-53-4141, Revision 02, dated August 13, 2004; describe procedures for submitting certain information to the manufacturer, this AD does not require those actions.

Alternative Methods of Compliance

(g) In accordance with 14 CFR 39.19, the Manager, International Branch, ANM-116, FAA, Transport Airplane Directorate, is authorized to approve alternative methods of compliance for this AD.

Note 1: The subject of this AD is addressed in French airworthiness directives 2003-205(B), dated May 28, 2003; and 2003-206(B), dated May 28, 2003.

Issued in Renton, Washington, on November 10, 2004.
Ali Bahrami,
Manager, Transport Airplane Directorate, Aircraft Certification Service.

[FR Doc. 04-25793 Filed 11-19-04; 8:45 am]

BILLING CODE 4910-13-P